DEPARTMENT OF JUSTICE

Notice of Lodging of Proposed Settlement Agreement Under the Comprehensive Environmental Response, Compensation, and Liability Act

On February 4, 2015, the Chapter 7 Trustee lodged a proposed Settlement Agreement with the United States Bankruptcy Court for the Southern District of Florida, in the Chapter 7 bankruptcy entitled In re: Merendon Mining (Nevada), Inc. a/k/a/Milowe Brost Company, Case No. 09-11958-BKC-AJC.

The Settlement Agreement resolves the claims of the United States set forth in the Proof of Claim against Merendon Mining (Nevada), Inc., for costs incurred and to be incurred in connection with the Central City/Clear Creek Superfund Site, located in Clear Creek County and Gilpin County, Colorado (the “Site”), pursuant to Section 107 of the Comprehensive Environmental Response, Compensation, and Liability Act (“CERCLA”), 42 U.S.C. 9607. Under the Settlement Agreement, the Chapter 7 Trustee agrees to an allowed claim of $65,043.00 for past costs incurred by the United States Environmental Protection Agency at the Site.

The publication of this notice opens a period for public comment on the Settlement Agreement. Comments should be addressed to the Assistant Attorney General, Environment and Natural Resources Division, and should refer to In re: Merendon Mining (Nevada), Inc. a/k/a/Milowe Brost Company, DJ No. 90-11-3-10182. All comments must be submitted no later than twenty-one (21) days after the publication date of this notice. Comments may be submitted either by email or by mail:

To submit comments: | Send them to:
By e-mail | pubcomment-ees.enrd@usdoj.gov.
By mail | Assistant Attorney General U.S. DOJ—ENRD P.O. Box 7611 Washington, D.C. 20044-7611.

During the public comment period, the Settlement Agreement may be examined and downloaded at this Justice Department Web site: http://www.usdoj.gov/enrd/Consent_Decrees.html. We will provide a paper copy of the Settlement Agreement upon written request and payment of reproduction costs. Please mail your request and payment to: Settlement Agreement Library, U.S. DOJ—ENRD, P.O. Box 7611, Washington, DC 20044-7611.

Please enclose a check or money order for $3.00 (25 cents per page reproduction cost) payable to the United States Treasury. For a paper copy without the appendices and signature pages, the cost is $2.25.

Robert Brook,
Assistant Section Chief, Environmental Enforcement Section, Environment and Natural Resources Division.

[FR Doc. 2015-03676 Filed 2-23-15; 8:45 am]

BILLING CODE 4410-15-P